DEPARTMENT OF JUSTICE

Antitrust Division

Notice Pursuant to the National Cooperative Research and Production Act Of 1993—Space Enterprise Consortium

Notice is hereby given that, on August 5, 2019, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, ABL Space Systems Company, El Segundo, CA; Apollo Fusion Inc., Mountain View, CA; AST & Defense LLC, College Park, MD; Atmospheric and Environmental Research Inc., Lexington, MA; AVIAN, Inc., Lexington Park, MD; Busek Co. Inc., Natick, MA; CJ Manufacturing LLC, Daytona Beach, FL; Cobham Colorado Springs, Inc., Colorado Springs, CO; Composite Technology Development, Inc., Lafayette, CO; CONCEPTS NREC, LLC, White River Junction, VT; Cummings Aerospace, Inc., Huntsville, AL; DRS Global Enterprise Solutions, Inc., Dulles, VA; EC America, Inc., McLean, VA; EXB Solutions, Inc., Plymouth, MN; Exos Aerospace Systems & Technologies, Inc., Greenville, TX; Genesis Engineering Solutions, Inc., Lanham, MD; John Hopkins University Applied Physics Lab, Laurel, MD; Koolock, Inc., Moffett Field, CA; KPMG LLP, McLean, VA; Kubos Corporation, Denton, TX; MainStem LLC, Fulton, MD; Malin Space Science Systems, Inc., San Diego, CA; MOTIV Space Systems, Inc., Pasadena, CA; PatchPlus Consulting, Inc., Medford, NJ; Phase Four, Inc., El Segundo, CA; PreTalen, Ltd., Beavercreek, OH; QMS Consulting, Washington, DC; Scientific Systems Company, Inc., Woburn, MA; Scorpius Space Launch Company, Torrance, CA; The Stratagem Group, Inc., Aurora, CO; Tiger Innovations Incorporated, Herndon, VA; and XTAR, LLC, Ashburn, VA, have been added as parties to this venture.

Also, Additive Rockets Corporation, La Jolla, CA, and Platron Manufacturing, Pflugerville, TX, have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on April 29, 2019. A notice was published in the Federal Register pursuant to Section 6(b) of the Act on May 20, 2019 (84 FR 22897).

Suzanne Morris,
Chief, Premerger and Division Statistics Unit Antitrust Division.

[FR Doc. 2019-19074 Filed 9-3-19; 8:45 am]

BILLING CODE 4410-11-P